DEPARTMENT OF VETERANS AFFAIRS

[OMB Control No. 2900-0877]

Agency Information Collection Activity: Freedom of Information Act (FOIA) or Privacy Act (PA) Request, Priority Processing Request, and Document/Evidence Submission

AGENCY: Veterans Benefits Administration; Department of Veterans Affairs.

ACTION: Notice.

SUMMARY: In compliance with the Paperwork Reduction Act (PRA) of 1995, this notice announces that the Veteran Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0877.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0877” in any correspondence.

SUPPLEMENTARY INFORMATION:

Authority: Public Law 104-13; 44 U.S.C. 3501-21.

Title: Freedom of Information Act (FOIA) or Privacy Act (PA) Request (VA Form 20-10206), Priority Processing Request (VA Form 20-10207) and Document/Evidence Submission (VA Form 20-10208).

OMB Control Number: 2900-0877.

Type of Review: Revision.

Abstract: Under Title 38, U.S.C., section 3702, authorizes collection of this information to help determine the release of liability and substitution of entitlement. An agency may not conduct or sponsor, and a person is not required to respond to a collection of information unless it displays a currently valid OMB control number.

An agency may not conduct or sponsor, and a person is not required to respond to a collection of information unless it displays a currently valid OMB control number.

The Federal Register Notice with a 60-day comment period soliciting comments on this collection of information was published at insert citation date: 88 FR 10345 on May 15, 2023, pages 31099-31100.

Affected Public: Individuals or Households.

Estimated Annual Burden: 13,230 hours.

Estimated Average Burden per Respondent: 6 minutes.

Frequency of Response: One time.

Estimated Number of Respondents: 132,301.

By direction of the Secretary.
Dorothy Glasgow,
VA PRA Clearance Officer, (Alt.) Office of Enterprise and Integration, Data Governance Analytics, Department of Veterans Affairs.

[FR Doc. 2023-15017 Filed 7-14-23; 8:45 am]

BILLING CODE 8320-01-P